DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Services Accountability Improvement System—(OMB No. 0930-0208)—Extension

This is an extension to the previously OMB approved instrument. The Services Accountability Improvement System (SAIS), which is a real-time, performance management system that captures information on the substance abuse treatment and mental health services delivered in the United States. A wide range of client and program information is captured through SAIS for approximately 600 grantees. Substance abuse treatment facilities submit their data on a monthly and even a weekly basis to ensure that SAIS is an accurate, up-to-date reflection on the scope of services delivered and characteristics of the treatment population. Over 30 reports on grantee performance are readily available on the SAIS Web site. The reports inform staff on the grantees' ability to serve their target populations and meet their client and budget targets. SAIS data allow grantees information that can guide modifications to their service array. Continued approval of this information collection will allow SAMHSA to continue to meet Government Performance and Results Act of 1993 (GPRA) reporting requirements that quantify the effects and accomplishments of its discretionary grant programs which are consistent with OMB guidance.

Note that there are no changes to the instrument or the burden hours from the previous OMB submission.

Based on current funding and planned fiscal year 2010 notice of funding announcements (NOFA), the CSAT programs that will use these measures in fiscal years 2013 through 2014 include: the Access to Recovery 2 (ATR2), ATR3, Addictions Treatment for Homeless; Adult Criminal Justice Treatment; Assertive Adolescent Family Treatment; HIV/AIDS Outreach; Office of Juvenile Justice and Delinquency Prevention—Brief Intervention and Referral to Treatment (OJJDP-BIRT); OJJDP-Juvenile Drug Court (OJJDP-JDC); Offender Re-entry Program; Pregnant and Postpartum Women; Recovery Community Services Program—Services; Recovery Oriented Systems of Care; Screening and Brief Intervention and Referral to Treatment (SBIRT), Targeted Capacity Expansion (TCE); TCE/HIV; Treatment Drug Court; and the Youth Offender Reentry Program. SAMHSA uses the performance measures to report on the performance of its discretionary services grant programs. The performance measures information is used by individuals at three different levels: the SAMHSA administrator and staff, the Center administrators and government project officers, and grantees

SAMHSA and its Centers will use the data for annual reporting required by GPRA and for NOMs comparing baseline with discharge and follow-up data. GPRA requires that SAMHSA's report for each fiscal year include actual results of performance monitoring for the three preceding fiscal years. The additional information collected through this process will allow SAMHSA to report on the results of these performance outcomes as well as be consistent with the specific performance domains that SAMHSA is implementing as the NOMs, to assess the accountability and performance of its discretionary and formula grant programs.

Note that there are no changes to the instrument or the burden hours from the previous OMB submission.

Estimates of Annualized Hour Burden ¹—CSAT GPRA Client Outcome Measures for Discretionary Programs
Center/form/respondent type | Number of respondents | Responses per respondent | Total responses | Hours per response | Total hour burden | Added burden proportion ²
Clients:
Adolescents | 3,900 | 4 | 15,600 | .5 | 7,800 | .34
Adults:
General non ATR or SBIRT) | 28,000 | 3 | 84,000 | .5 | 42,000 | .34
ATR | 53,333 | 3 | 159,999 | .5 | 80,000 | .34
SBIRT ⁴ Screening Only | 150,618 | 1 | 150,618 | .13 | 19,580 | 0
SBIRT Brief Intervention | 27,679 | 3 | 83,037 | .20 | 16,607 | 0
SBIRT Brief Tx & Refer to Tx | 9,200 | 3 | 27,600 | .5 | 13,800 | .34
Client Subtotal | 272,730 |  | 520,854 |  | 179,787 |
Data Extract ⁵ and Upload:
Adolescent Records | 44 grants | 44 X 4 | 176 | .18 | 32 |
Adult Records:
General (non ATR or SBIRT) | 528 grants | 70 X 3 | 210 | .18 | 38 |
ATR Data Extract | 53,333 | 3 | 160,000 | .16 | 25,600 |
ATR Upload ⁶ | 24 grants | 3 | 160,000 | 1 hr. per 6,000 records | 27 |
SBIRT Screening Only Data Extract | 9 grants | 21,517 X 1 | 21,517 | .07 | 1,506 |
SBIRT Brief Intervention Data Extract | 9 grants | 3,954 X 3 | 11,862 | .10 | 1,186 |
SBIRT Brief Tx&Refer to Tx Data Extract | 9 grants | 1,314 X 3 | 3,942 | .18 | 710 |
SBIRT Upload ⁷ | 7 grants |  | 171,639 | 1 hr. per 6,000 records | 29 |
Data Extract and Upload Subtotal | 53,856 |  | 529,382 |  | 29,134 |
Total | 326,586 |  | 1,050,236 |  | 208,921 |
NOTES:
1. This table represents the maximum additional burden if adult respondents, for the discretionary services programs including ATR, provide three sets of responses/data and if CSAT adolescent respondents, provide four sets of responses/data.
2. Added burden proportion is an adjustment reflecting customary and usual business practices programs engage in (e.g., they already collect the data items).
3. Estimate based on 2010 hourly wave of $19.97 for U.S. workforce eligible from the Bureau of Labor Statistics
4. Screening, Brief Intervention, Treatment and Referral (SBIRT) grant program:
* 27,679 Brief Intervention (BI) respondents complete sections A & B of the GPRA instrument, all of these items are asked during a customary and usual intake process resulting in zero burden; and
* 9,200 Brief Treatment (BT) & Referral to Treatment (RT) respondents complete all sections of the GPRA instrument.
5. Data Extract by Grants: Grant burden for capturing customary and usual data.
6. Upload: all 24 ATR grants upload data.
7. Upload: 7 of the 9 SBIRT grants upload data; the other 2 grants conduct direct data entry.

Written comments and recommendations concerning the proposed information collection should be sent by March 21, 2013 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2013-03621 Filed 2-15-13; 8:45 am]

BILLING CODE 4162-20-P